DEPARTMENT OF TRANSPORTATION

Federal Transit Administration

[Docket No. FTA-2024-0009]

Notice of Buy America Waiver for Turnout Switch Components for Detroit People Mover

AGENCY: Department of Transportation (DOT), Federal Transit Administration (FTA).

ACTION: Notice of Buy America waiver.

SUMMARY: This notice provides information regarding FTA's finding that it is appropriate to grant a Buy America nonavailability waiver to the Detroit Transportation Corporation (DTC) for the procurement of special trackwork turnout switch components needed for the DTC's People Mover that are not manufactured in the United States. Specifically, this waiver covers one pair of EN60E1A1 switch point rails and all appurtenances associated with its installation.

DATES: The waiver is applicable November 14, 2024.

FOR FURTHER INFORMATION CONTACT: Jason Luebbers, FTA Attorney-Advisor, at (202) 366-8864 or Jason.Luebbers@dot.gov.

SUPPLEMENTARY INFORMATION:

Background

With certain exceptions, FTA's Buy America requirements prevent FTA from obligating an amount that may be appropriated to carry out its program for a project unless “the steel, iron, and manufactured goods used in the project are produced in the United States.” 49 U.S.C. 5323(j)(1). A manufactured product is considered produced in the United States if (1) all of the manufacturing processes for the product take place in the United States and (2) all of the components of the product are of U.S. origin. A component is considered of U.S. origin if it is manufactured in the United States, regardless of the origin of its subcomponents. 49 CFR 661.5(d).

FTA may waive Buy America requirements for a product if, among other reasons, a compliant version of the product is not produced in a sufficient and reasonably available amount or is not of satisfactory quality. 49 U.S.C. 5323(j)(2)(B). FTA cannot deny a request for a nonavailability waiver unless it can provide the waiver applicant with a written certification that the item is produced in the United States in a sufficient and reasonably available amount; the item produced in the United States is of a satisfactory quality; and includes a list of known manufacturers in the United States from which the item can be obtained. 49 U.S.C. 5323(j)(6).

DTC is the owner and operator of the Detroit People Mover, which is the largest municipal rail system in Michigan. It is an automated light rail system that operates twelve rail cars on an elevated single track in a 2.9-mile loop with thirteen passenger stations in Detroit's central business district.

The existing switches were installed as original equipment in 1987 and designed to European standards, using AREMA 115RE rail throughout the turnout with a special EN60E1A1 switch point section. The proper operation of the switch is essential for the continued, safe operations of DTC vehicles. DTC previously sought and received a Buy America waiver from FTA for two replacement switches from Delta Railroad Construction, Inc. (Delta) on April 19, 2016 (81 FR 23077).

On January 19, 2023, DTC issued a request for proposals (RFP) (No. 1-19-2023, for DTC Sub-Package 7), which includes the special track switch described above, and received two responses. Both bidders certified that the switches they could provide would not comply with the FTA Buy America requirements. Following the RFP, DTC submitted a nonavailability waiver request to FTA for the non-compliant switch components. 49 U.S.C. 5323(j)(2) and 49 CFR 661.7(c)(2).

The product that requires a waiver is one pair of EN60E1A1 switch point rails and all appurtenances associated with its installation; four transition head machined rails for connection to frog and turnout rails; and one set of switch point rods consisting of two drive rods and two detector rods. FTA estimates the total cost of goods subject to this proposed waiver is less than $300,000.

Proposed Waiver and Request for Comments

On September 9, 2024, FTA published a Notice of Proposed Buy America Waiver and Request for Comment, (89 FR 73185) for the special trackwork switches DTC seeks to procure under Sub-Package 7. The proposed waiver would apply only to the switch described above. The waiver would not apply to any other products or any other projects besides Sub-Package 7.

Response to Comments

FTA received no comments in response to its proposed waiver.

Finding on Waiver

For the reasons stated above, FTA is granting the waiver as proposed.

FTA waives one pair of EN60E1A1 switch point rails and all appurtenances associated with its installation; four transition head machined rails for connection to frog and turnout rails; and one set of switch point rods consisting of two drive rods and two detector rods to be procured under Sub-Package 7. The waiver is effective from the effective date of this notice through the period of performance and closeout of FTA's financial assistance for the project, which is estimated to be March 30, 2030.

Veronica Vanterpool,
Deputy Administrator.

[FR Doc. 2024-26518 Filed 11-13-24; 8:45 am]

BILLING CODE 4910-57-P